DEPARTMENT OF HOMELAND SECURITY

8 CFR Part 208

Procedures for Asylum and Withholding of Removal

CFR Correction

In Title 8 of the Code of Federal Regulations, revised as of January 1, 2012, in § 208.24, on page 167, reinstate paragraph (a) introductory text at the beginning of the section and on page 168, reinstate paragraph (b) introductory text before paragraph (1) to read as follows:

§ 208.24 Termination of asylum or withholding of removal or deportation.

(a) Termination of asylum by USCIS. Except as provided in paragraph (e) of this section, an asylum officer may terminate a grant of asylum made under the jurisdiction of USCIS if, following an interview, the asylum officer determines that:

* * * * *

(b) Termination of withholding of deportation or removal by USCIS. Except as provided in paragraph (e) of this section, an asylum officer may terminate a grant of withholding of deportation or removal made under the jurisdiction of USCIS if the asylum officer determines, following an interview, that:

* * * * *

[FR Doc. 2012-31270 Filed 12-27-12; 8:45 am]

BILLING CODE 1505-01-D